DEPARTMENT OF TRANSPORTATION

Federal Motor Carrier Safety Administration

[Docket No. FMCSA-2005-21050]

Notice of Request for Extension of a Currently Approved Data Collection: Application for Certificate of Registration for Foreign Motor Carriers and Foreign Motor Private Carriers

AGENCY: Federal Motor Carrier Safety Administration (FMCSA), DOT.

ACTION: Notice and request for comments.

SUMMARY: In accordance with the Paperwork Reduction Act of 1995 (44 U.S.C. 3501 et seq.), this notice announces that the Information Collection Request (ICR) abstracted below has been forwarded to the Office of Management and Budget (OMB) for approval and comment. The ICR describes the nature of the information collection and its expected cost and burden. The Federal Register notice with a 60-day comment period soliciting comments on the following collection of information was published on January 12, 2005 (70 FR 2209). Two comments were received.

DATES: Comments must be submitted on or before July 21, 2005. A comment to OMB is most effective if OMB receives it within 30 days of this publication.

ADDRESSES: You may submit comments identified by Docket Number FMCSA-2005-21050 by any of the following methods:

• Web site: http://dms.dot.gov.

Follow the instructions for submitting comments on the DOT electronic docket site.

• Fax: 1-202-493-2251.

• Mail: Docket Management System (DMS) Facility, U.S. Department of Transportation, 400 Seventh Street, SW., Nassif Building, Room PL-401, Washington, DC 20590-0001.

• Hand Delivery: Room PL-401 on plaza level of the Nassif Building, 400 Seventh Street, SW., Washington DC, between 9 a.m. and 5 p.m., Monday through Friday, except on Federal holidays.

• Federal eRulemaking Portal: Go to http://www.regulations.gov. Follow the online instructions for submitting comments.

Instructions: All submissions must include the agency name and docket number or Regulatory Identification Number (RIN) for this rulemaking process. Note that all comments received will be posted without change to http://dms.dot.gov including any personal information provided. Please see the Privacy Act heading under Regulatory Notes.

Docket: For access to the docket to read background documents or comments received, go to http://dms.dot.gov at any time or to Room PL-401 on the plaza level of the Nassif Building, 400 Seventh Street, SW., Washington, DC, between 9 a.m. and 5 p.m., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11 65 FR 19477) or you may visit http://dms.dot.gov.

FOR FURTHER INFORMATION CONTACT: Ms. Angeli Sebastian, Division Chief, Information Systems, (202) 366-4023, Federal Motor Carrier Safety Administration (MC-RIS), 400 7th Street SW., Suite 8214, Washington, DC 20590. Office hours are from 7 a.m. to 4:30 p.m., e.t., Monday through Friday, except Federal holidays.

SUPPLEMENTARY INFORMATION:

Title: Application for Certificate of Registration for Foreign Motor Carriers and Foreign Motor Private Carriers.

OMB Control Number: 2126-0019.

Type of Request: Extension of a currently approved collection.

Abstract: Title 49 U.S.C. 13902(c) contains basic licensing procedures for registering foreign motor carriers to operate across the Mexico-U.S. border into the United States. Title 49 CFR part 368 contains related regulations. The FMCSA carries out this registration program under authority delegated by the Secretary of Transportation. Foreign (Mexico-based) motor carriers use Form OP-2 to apply for registration authority at the FMCSA. The form requests information on the motor carrier's name, address, U.S. DOT Number, form of business (e.g., corporation, sole proprietorship, partnership, etc.), locations where the applicant plans to operate, types of registration requested (e.g., for-hire motor carrier, motor private carrier), insurance, safety certifications, household goods arbitration certifications, and compliance certifications.

Respondents: Foreign (Mexico-based) motor carriers.

Estimated Number of Respondents: 2,800.

Average Burden Per Response: The estimated average burden per response is 4 hours.

Estimated Total Annual Burden: The estimated total annual burden is 11,200 hours.

Comments are invited on: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. All responses to this notice will be summarized and included in the request for OMB approval.

Authority: The Paperwork Reduction Act of 1995, 44 U.S.C. Chapter 35, as amended; 49 U.S.C. 13902(c); and 49 CFR 1.73.

Issued on: June 13, 2005.
Annette M. Sandberg,
Administrator.

[FR Doc. 05-12110 Filed 6-20-05; 8:45 am]

BILLING CODE 4910-EX-P